DEPARTMENT OF TRANSPORTATION

Federal Aviation Administration

Fifth Meeting: Tiger Team 011 (TG 011)

AGENCY: Federal Aviation Administration (FAA), U.S. Department of Transportation (DOT).

ACTION: Seventh Meeting Notice of Tiger Team 011.

SUMMARY: The FAA is issuing this notice to advise the public of the seventh meeting of the Tiger Team 011.

DATES: The meeting will be held July 27th-30th from 8:30 a.m.-5:00 p.m.

ADDRESSES: The meeting will be held at RTCA, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Tiger Team 011. The agenda will include the following:

July 27-30, 2015

1. Introduction

2. Agenda Overview

3. Review of FRAC comments and proposed comment resolutions—Document under FRAC from June 22 to July 20, 2015

4. Approval of Final document for the PMC

5. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 24, 2015.
Latasha Robinson,
Management & Program Analyst, NextGen, Program Oversight and Administration, Federal Aviation Administration.

[FR Doc. 2015-16056 Filed 6-29-15; 8:45 am]

BILLING CODE 4910-13-P